DEPARTMENT OF THE INTERIOR

National Park Service

Notice of Intent To Prepare an Environmental Impact Statement (EIS) for the General Management Plan for Cane River Creole National Historical Park, Louisiana.

SUMMARY: Pursuant to Section 102(2)(c) of the National Environmental Policy Act, the National Park Service will prepare an Environmental Impact Statement to assess the potential impacts of future development and management options in conjunction with the General Management Plan (GMP) for Cane River Creole National Historical Park, Louisiana.

Preparation of a draft GMP began in 1996 and included preparation of a draft Environmental Assessment. Scoping for the plan has included interdisciplinary team meetings with the Cane River National Heritage Area Commission, interested agencies, organizations, and individuals. Meetings with the general public were conducted in January and February, 1996, March and April 1997, and March and April 1998. The scoping process has indicated that the proposals being considered may constitute a major Federal action significantly affecting the quality of the human environment. Therefore, the preparation of an EIS in conjunction with the plan is appropriate.

The General Management Plan and EIS will investigate alternatives ranging from no action to a variety of development and management proposals designed to guide visitor use, resource protection, and partnership relationships. Federal, state, and local agencies, and other individuals and organizations who may be interested in, or affected by, the future development of Cane River Creole National Historical Park are further invited to participate in refining or identifying issues.

Preparation of the plan and EIS is expected to take about 11 months. The draft plan and EIS should be available for public review by early spring, 2000 with the final plan and EIS and Record of Decision expected to be completed by early fall, 2000. Schedules for public meetings to solicit comments on the draft plan/EIS will be announced in the local press at the time of plan completion.

ADDRESSES: Written comments concerning preparation of the EIS or requests for information or to be added to the project mailing list, should be sent to: Superintendent, Cane River Creole National Historical Park, 4386 Highway 494, Natchez, Louisiana 71456. Telephone: 318-352-0383. E-mail: laura_soulliere@nps.gov.

FOR FURTHER INFORMATION CONTACT: Superintendent, Cane River Creole National Historical Park, at the above address and telephone number.

SUPPLEMENTARY INFORMATION: Cane River Creole National Historical Park was designated November 2, 1994. Congress established the park to: (1) Assist in the preservation and interpretation of, and education concerning, the Creole culture and diverse history of the Natchitoches region, and (2) to provide technical assistance to landowners and preservation organizations. The park includes a total of 63 acres of historic plantation properties located at two distinct sites along the Cane River in northwestern Louisiana near the city of Natchitoches: (1) 44 acres of Oakland Plantation and (2) 19 acres of Magnolia Plantation. The plantations were owned and continuously operated by the same French Creole families for eight generations. They retain an extensive number of outbuildings and have retained the appearance and integrity of modest family plantations. Most of the structures are classic Creole architecture with roots in African and early French architecture. Oakland Plantation includes the remaining core plantation infrastructure of 26 buildings, ranging from the main house and 1835 bottle garden, to numerous outbuildings, including the plantation store, pigeonniers, a large seed house, workshops, and two quarters. The Magnolia Plantation unit is comprised of 17 outbuildings and dependencies, including the slave hospital/overseer's house, a unique complex of eight brick quarters clustered in two rows, the plantation store, a blacksmith shop, and a large gin barn that houses a rare cotton press and two types of cotton gins.

The 1994 legislation also created the Cane River National Heritage Area and Commission. This national heritage area was created to complement the park and provide a culturally sensitive approach to preserving the heritage of the Cane River region through local partnerships, thereby minimizing the need for federal land acquisition or management. The Commission is advisory to the National Park Service in the preparation of the general management plan.

In accordance with NPS park planning policy, the GMP/EIS will ensure the park has a clearly defined direction for resource preservation and visitor use. It will be developed in consultation with the public and based on adequate analysis of existing and potential resource conditions and visitor experiences, environmental impacts, and costs of alternative courses of action.

Our practice is to make comments, including names and home addresses of respondents, available for public review during regular business hours. Individual respondents may request that we withhold their home address from the rulemaking record, which we will honor to the extent allowable by law.

There also may be circumstances in which we would withhold from the rulemaking record a respondent's identity as allowable by law. If you wish for us to withhold your name and/or address, you must state this prominently at the beginning of your comment. However, we will not consider anonymous comments. We will make all submissions from organizations or businesses, and from individuals themselves as representatives or officials of organizations or businesses, available for public inspection in their entirety.

The environmental review of the GMP/EIS for the park will be conducted in accordance with requirements of the NEPA (42 U.S.C. 4371 et seq.), NEPA regulation (40 CFR 1500-1508), other pertinent Federal regulations, and National Park Service procedures and policies.

Dated: January 19, 2000.
W. Thomas Brown,
Acting Regional Director, Southeast Region.

[FR Doc. 00-2024 Filed 1-28-00; 8:45 am]

BILLING CODE 4310-70-M